FEDERAL ACCOUNTING STANDARDS ADVISORY BOARD

Notice of Reappointment of Board Member to FASAB

AGENCY: Federal Accounting Standards Advisory Board.

ACTION: Notice.

SUMMARY: Notice is hereby given that Mr. Patrick McNamee has been reappointed to the Federal Accounting Standards Advisory Board (FASAB or “the Board”). Mr. McNamee's second and final five-year term on the Board begins on January 1, 2022, and will conclude on December 31, 2026.

ADDRESSES: The news release is available on the FASAB website at https://www.fasab.gov/news-releases/. Copies can be obtained by contacting FASAB at (202) 512-7350.

FOR FURTHER INFORMATION CONTACT: Ms. Monica R. Valentine, Executive Director, 441 G Street NW, Suite 1155, Washington, DC 20548, or call (202) 512-7350.

Authority: 31 U.S.C. 3511(d), the Federal Advisory Committee Act, as amended (5 U.S.C. app.), and the FASAB Rules of Procedure, as amended in October 2010.

Dated: December 13, 2021.
Monica R. Valentine,
Executive Director.

[FR Doc. 2021-27198 Filed 12-15-21; 8:45 am]

BILLING CODE P